DEPARTMENT OF ENERGY

Office of Energy Efficiency and Renewable Energy

Federal Energy Management Advisory Committee

AGENCY: Department of Energy.

ACTION: Notice of open meeting correction.

On May 15, 2001, the Department of Energy published a notice of open meeting announcing a meeting of the Federal Energy Management Advisory Committee 66 FR 26846. In that notice, the second session was scheduled from 6-7:30 p.m.. Today's notice is announcing that the second session will begin at 5 p.m. and adjourn at 7 p.m.

Issued in Washington, DC on May 29, 2001.
Belinda G. Hood,
Acting Deputy Advisory Committee Management Officer.

[FR Doc. 01-13826 Filed 5-31-01; 8:45 am]

BILLING CODE 6450-01-P